DEPARTMENT OF AGRICULTURE

Forest Service

Sheep Creek Fire Salvage, Beaverhead-Deerlodge National Forest, Beaverhead County, MT

AGENCY: Forest Service, USDA.

ACTION: Amended notice of intent to prepare an environmental impact statement.

SUMMARY: This amended notice of intent to prepare an environmental impact statement is a correction of the original notice of intent published on July 11, 2003 (Volume 68, Number 133, page 41295-41296). This amendment includes text which was not included in the original notice of intent. The USDA, Forest Service, will prepare an environmental impact statement (EIS) to disclose the environmental effects of the salvage harvest of timber killed as a result of fire in the Canyon Creek, Boulder Creek, Cascade Creek, Sage Creek, and Runaway Creek drainages (herein referred to as the Sheep Creek project). The project area is located 15 miles west of Wisdom, Montana, north of State Highway 43, just west of the Placer Creek Road. The project area is outside of inventoried roadless areas.

DATES: Comments concerning the scope of the analysis must be postmarked by November 20, 2003. The draft environmental impact statement is expected February, 2004 and the final environmental impact statement is expected June of 2004.

ADDRESSES: Written comments concerning this notice or a request to be placed on the project mailing list should be addressed to Chris Tootell, TEAMS, 200 East Broadway, suite 251, Missoula, Montana, 59807. Comments may also be sent via e-mail to r1_b-d_comments@fs.fed.us. (Please note that there is a ‘one’ after the letter r, not an ‘L.’) The subject line in the e-mail message should contain the title “Sheep Creek Fire Salvage Project.” If you choose to comment by e-mail, please include your name and regular mailing address with the comment. Comments may also be sent via facsimile to (406) 689-3245, C/O Dennis Havig, Wisdom Ranger District.

All comments, including names and addresses when provided, are placed in the record and are available for public inspection and copying. The public may inspect comments received at the Wisdom Ranger District,Wisdom, MT. Visitors are encouraged to call ahead to (406) 689-3243 to facilitate entry to the building.

FOR FURTHER INFORMATION CONTACT: Chris Tootell, Environmental Resource Coordinator, TEAMS Enterprise unit, USDA Forest Service (406) 329-3459. Individuals who use telecommunication devices for the deaf (TDD) may call the Federal Information Relay Service (FIRS) at 1-800-877-8339 between 8 a.m. and 8 p.m., Eastern Standard Time, Monday through Friday.

SUPPLEMENTARY INFORMATION: The proposed project area is located within sections 4,5,6,7,8,9 & 18, T.2S., R.17W., and sections 1, 12 and 13, T.2S., R.18W.

Purpose and Need for Action

The purpose and need for the proposed action is to move toward the desired conditions as described in the Beaverhead National Forest Land and Resource Management Plan (LRMP). The proposed action is located on lands classified as “available and suitable for timber production” (LRMP, p. III-48 and III-63). Congress has recognized the importance of sustainable commodity use in laws including the Multiple-Use Sustained Yield Act, the National Forest Managment Act, and the 1872 Mining Act. There is a need to emphasize long-term production of commodities for local and regional economies, communities, and people in an environmentally sound manner (LRMP, Record of Decision, p.19). Most of the trees killed as a result of the fire are expected to fall to the ground and contribute to heavy fuel build-up over the next two decades. There is a need to break up the continuity of fuel accumulation to prevent the dead trees from becoming part of a future, long-term fuels problem. Specifically, the purpose and need is to:

• Recover and utilize timber from the trees killed as a result of the Sheep Creek Fire providing a supply of wood products to the forest products industry and ultimately to the public, and

• Break up fuel continuity and decrease fuel loads in order to decrease risks that future fires will pose to human health and safety, improvements and resources.

Proposed Action

To address these needs the proposed action has the following components:

• Approximately 600 to 1,000 acres would be salvage harvested within the Sheep Creek Fire perimeter. Trees that are dead as a result of the fire would be salvaged by conventional ground-based and cable logging methods. An estimated 3 to 6 million board feet of merchantable timber would be recovered by the harvesting operations. As much as practicable, slash associated with harvest operations would be piled and burned on the landings.

• Where concentrations of fuels exist within proposed treatment areas, techanical or other methods of fuel treatment will occur where practicable.

• Approximately 2.5 miles of temporary road would be constructed to access proposed harvest units; the temporary roads would be reclaimed when this project is completed.

The salvage timber harvest and fuel treatments following harvest would reduce fuel loading in accordance with Beaverhead National Forest Land and Resource Management Plan (LRMP p. II-29, II-35), and Beaverhead-Deerlodge Fire Management Plan.

Operational design elements would be included to ensure compliance and consistency with direction found in the LRMP, and state and federal law, regulation and direction.

Implementation of these activities would occur as soon as possible following completion of the environmental analysis. It is proposed that the environmental analysis be completed by spring of 2004 with a signed decision document issued by 6/18/2004.

Responsible Official

Thomas K. Reilly, Beaverhead-Deerlodge National Forest Supervisor, 420 Barrett Street, Dillon, MT 59725-3572.

Nature of Decision To Be Made

The decisions to be made include the location and scheduling of the proposed salvage harvest activities, harvest methods and associated slash treatment and silvicultural treatments; the estimated timber volume to make available from the project area; the estimated amount of temporary road construction needed; and mitigation mesures and monitoring requirements.

Scoping Process

Public participation is important to this analysis. Part of the goal of public involvement is to identify additional issues and to refine the general, tentaive issues. The Beaverhead-Deerlodge National Forest has developed a listing of individuals and organizations that have expressed an interest in being informed of and providing input to vegetation management and fuel redcution projects. This list of individuals and organizations include private citizens, businesses, various organizations, Native American groups, and federal, state and county agencies. All of these contacts will be sent the intial scoping document.

Preliminary Issues

The following list of preliminary issues was developed for the project area by the Forest Service Interdisciplinary Team (ID Team). This list was developed after review of issues from previous post fire management projects, including previous public involvement, and specific internal agency scoping. General categories have been used to focus key topics. This list will be amended and/or expanded after review of the Sheep Creek Fire Salvage project public comments. During the analysis, alternatives to the proposed action will be developed responding to the final list of issues. In response to the issues, the alternatives developed may include different levels of activity and may include different prescriptions.

• Timber sale value.

• Potential reduction of big game “security cover” within harvest units may result in a need for a nonsignificant site specific Forest plan amendment for elk effective cover standards.

• Loss of future potential Lynx denning habitat by removal of heavy fuels.

• Potential for introduction and spread of noxious weeds from logging and log hauling.

• Potential soil disturbance.

• Residual fuel loads exceeding desired thresholds within treatment units.

• Potential for introduction of sediment to streams impacting fish species.

• Loss of habitat for snag dependent and cavity nesting species.

Comment Requested

This amended notice of intent initiates the scoping process which guides the development of the draft environmental impact statement, including the identification of the range of alternatives to be considered. While public participation is strictly optional at this stage, the Forest Service believes that it is important to give reviewers notice of several court rulings related to public participation in the subsequent environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate by the close of the 45 day draft environmental impact statement comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments also may address the adequacy of the draft environmental impact statement or the merits of the alternatives formulated and discussed in the statement. In addressing these points, reviewers may wish to refer to the Council on Environmental Quality regulations which implement the procedural provisions of the National Environmental Policy Act at 40 CFR 1503.3.

Dated: September 23, 2003.
Thomas K. Reilly,
Forest Supervisor.

[FR Doc. 03-25235 Filed 10-3-03; 8:45 am]

BILLING CODE 3410-11-P